DEPARTMENT OF COMMERCE

National Oceanic and Atmospheric Administration

[I.D. 021202B]

Advisory Committee to the U.S. Section to the International Commission for the Conservation of Atlantic Tunas (ICCAT); Spring Species Working Group Meeting

AGENCY: National Marine Fisheries Service (NMFS), National Oceanic and Atmospheric Administration (NOAA), Commerce.

ACTION: Notice of public meeting.

SUMMARY: The Advisory Committee to the U.S. Section to ICCAT announces its spring meeting with its Species Working Group Technical Advisors on March 5 and 6, 2002.

DATES: The open sessions of the Committee meeting will be held on March 5, 2002, from 9:30 a.m. to 12 p.m., and on March 6, 2002, from 11:30 a.m. to 5 p.m.. Closed sessions will be held on March 5, 2002, from 1:15 p.m. to approximately 6 p.m., and on March 6, 2002, from 9 a.m. to 11:30 a.m.

ADDRESSES: The meeting will be held at the Hilton Hotel Silver Spring, 8727 Colesville Road, Silver Spring, Maryland 20910.

FOR FURTHER INFORMATION CONTACT: Erika Carlsen at (301) 713-2276.

SUPPLEMENTARY INFORMATION: The Advisory Committee to the U.S. Section to ICCAT will meet in two open sessions to receive and discuss information on (1) the 2001 ICCAT meeting results and U.S. implementation of ICCAT decisions; (2) 2002 ICCAT and NMFS research and monitoring activities; (3) ICCAT's allocation criteria development process results; (4) U.S. development of its National Plan of Action on Illegal, Unregulated, and Unreported (IUU) Fishing; (5) the U.S. Endangered Species Act status review of white marlin; (6) NMFS International Bycatch Task Force activities; (7) upcoming ICCAT working group meetings on combating IUU fishing, using trade measures to promote conservation, and improving ICCAT's monitoring and control regime; (8) next steps and future directions given the end of the 2001 ICCAT meeting; (9) Committee operational issues; (10) the Atlantic Tunas Convention Act required consultation on the identification of countries that are diminishing the effectiveness of ICCAT; (11) the results of the meetings of the Committee's Species Working Groups; and (12) other matters relating to the international management of ICCAT species. The public will have access to the open sessions of the meeting, but there will be no opportunity for public comment.

The Advisory Committee will go into executive session during part of the afternoon of March 5, 2002, to discuss sensitive information relating to upcoming international negotiations and for a portion of the morning of March 6 to discuss internal operational matters. In addition, the Committee will meet in its Species Working Groups for a portion of the afternoon of March 5 and morning of March 6, 2002. These sessions are not open to the public, but the results of the species working group discussions will be reported to the full Advisory Committee during the Committee's afternoon open session on March 6.

Special Accommodations

The meeting location is physically accessible to people with disabilities. Requests for sign language interpretation or other auxiliary aids should be directed to Erika Carlsen at (301) 713-2276 at least 5 days prior to the meeting date.

Dated: February 12, 2002.
Bruce C. Morehead,
Acting Director, Office of Sustainable Fisheries, National Marine Fisheries Service.

[FR Doc. 02-3976 Filed 2-15-02; 8:45 am]

BILLING CODE 3510-22-S